DEPARTMENT OF HEALTH AND HUMAN SERVICES

Administration for Children and Families

Proposed Information Collection Activity; Tribal Temporary Assistance for Needy Families Data Report, Tribal Assistance for Needy Families Annual Report, and Tribal Assistance for Needy Families Reasonable Cause/Corrective Action Documentation Process

AGENCY: Office of Family Assistance, Administration for Children and Families, U.S. Department of Health and Human Services.

ACTION: Request for public comments.

SUMMARY: The Administration for Children and Families (ACF) is requesting a 3-year extension of the Tribal Temporary Assistance for Needy Families (TANF) Data Report, Tribal TANF Annual Report, and Tribal TANF Reasonable Cause/Corrective Action Documentation Process (Office of Management and Budget (OMB) #0970-0215, expiration June 30, 2025). There are minor changes requested to the form.

DATES: Comments due June 23, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: 42 U.S.C. 612 (Section 412 of the Social Security Act as amended by Pub. L. 104-193, the Personal Responsibility and Work Opportunity Reconciliation Act of 1996), mandates that federally recognized Indian tribes with an approved Tribal TANF program collect and submit to the Secretary of the Department of Health and Human Services (the Department) data on the recipients served by the tribes' programs. This information collection includes both aggregated and disaggregated data on case characteristics and individual characteristics. In addition, tribes that are subject to a penalty are allowed to provide reasonable cause justifications as to why a penalty should not be imposed or may develop and implement corrective compliance procedures to eliminate the source of the penalty. Finally, there is an annual report that requires the tribes to describe program characteristics. All the above requirements are currently approved by OMB, and ACF is proposing to continue this information collection with only changes to instructions to improve formatting, clarity, and consistency.

Respondents: Federally recognized Indian tribes and tribal organizations operating Tribal TANF Programs.

Annual Burden Estimates:

Instrument | Total number of respondents | Total number of responses per respondent | Average burden hours per response | Annual burden hours
Tribal TANF Data Report | 75 | 4 | 451 | 135,300
Tribal TANF Annual Report | 75 | 1 | 40 | 3,000
Tribal TANF Reasonable Cause/Corrective Action Documentation Process | 10 | 1 | 60 | 600
Estimated Total Annual Burden Hours |  |  |  | 138,900

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 612, 45 CFR part 286.

Mary C. Jones,
ACF/OPRE Certifying Officer.

[FR Doc. 2025-07078 Filed 4-23-25; 8:45 am]

BILLING CODE 4184-36-P